DEPARTMENT OF HOMELAND

Transportation Security Administration

Port Security Grant Program; Application Notice Describing the Category of Interest and Establishing the Close Date for Receipt of Applications Under the Port Security Grant Program—Round 3

AGENCY: Transportation Security Administration, Department of Homeland Security.

ACTION: Notice inviting applications for the Port Security Grant Program.

SUMMARY: The purpose of the Port Security Grant Program is to support efforts for port security at critical national seaports in the area of enhanced facility and operational security.

The Port Security Grant Program will fund projects in the Enhanced Facility and Operational Security Category. The Transportation Security Administration (TSA) is coordinating with the Maritime Administration and the U.S. Coast Guard in this effort. Applications may be submitted by critical national seaports/terminals/U.S. passenger vessels as specified in the Request for Applications. Authority for this program is contained in the FY 2002 Supplemental Appropriations Act for Further Recovery From and Response to Terrorist Attacks on the United States, Pub L. 107-206, 116 Stat. 820, Awards. Funds appropriated from the Consolidated Appropriations Resolution, 2003, Pub. L. 108-7 and Emergency Wartime Supplemental Appropriations Act, 2003, Pub. L. 108-11 are being awarded under the Port Security Grant Program—Round 2.

DATES: The program announcement (Program Announcement #02MLPA0003) and application forms for the Port Security Grant Program—Round 3 are expected to be available on or about July 21, 2003. Applications must be received on or before 2 p.m. Eastern Daylight Savings Time, August 21, 2003.

ADDRESSES: The Request for Applications, forms and instructions for preparing and submitting an application for the Port Security Grant Program will be available through the Internet at http://www.portsecuritygrants.dottsa.net/.

FOR FURTHER INFORMATION CONTACT: Mr. Tony Corio, Transportation Security Administration, Office of Maritime and Land Security, TSA Headquarters West Building, 9th Floor, TSA-8, 601 South 12th Street, Arlington, VA 22202-4220, (571) 227-1233, e-mail: Tony.Cario@dhs.gov.

SUPPLEMENTARY INFORMATION: Total anticipated funding available for Port Security Grant Program—Round 3 is $104,000,000. Awards under this program are subject to availability of funds.

Port Security Grant Program—Round 3 Category: Enhanced Facility and Operational Security—including but not limited to facility/terminal/U.S. Passenger vessels, access control, physical security, cargo security and passenger security.

This program has the following prerequisite: Applicants must have completed a security assessment and tie the security enhancements to their assessment in order to submit a grant application. Security assessments must be available for review upon the request of the evaluators.

Dated: July 16, 2003.
Chester Lunner,
Assistant Administrator, Office of Maritime and Land Security, Transportation Security Administration.

[FR Doc. 03-18463 Filed 7-18-03; 8:45 am]

BILLING CODE 4110-62-M